Executive Order 13377 of April 13, 2005

Designating the African Union as a Public International Organization Entitled To Enjoy Certain Privileges, Exemptions, and Immunities

By the authority vested in me as President by the Constitution and the laws of the United States of America, including sections 1 and 12 of the International Organizations Immunities Act (22 U.S.C. 288 and 288f-2), as amended by section 569(h) of the Foreign Operations, Export Financing, and Related Programs Appropriations Act, 2005 (Division D of Public Law 108-447), it is hereby ordered as follows:

Section 1. Designation. The African Union is hereby designated as a public international organization entitled to enjoy the privileges, exemptions, and immunities provided by the International Organizations Immunities Act.

Sec. 2. Non-Abridgement. The designation in section 1 of this order is not intended to abridge in any respect privileges, exemptions, or immunities that the African Union otherwise may have acquired or may acquire by law.

Sec. 3. Revocation. Executive Order 11767 of February 19, 1974, is revoked.

B

THE WHITE HOUSE,

April 13, 2005.

[FR Doc. 05-7831

Filed 4-15-05; 8:45 am]

Billing code 3195-01-P